FEDERAL FINANCIAL INSTITUTIONS EXAMINATION COUNCIL

[Docket No. AS21-03]

Submission for OMB Review; Comment Request

AGENCY: Appraisal Subcommittee of the Federal Financial Institutions Examination Council (ASC).

ACTION: Notice.

SUMMARY: The ASC as part of a continuing effort to reduce paperwork and respondent burden, invites the general public and other Federal agencies to comment on the following extension of a currently approved collection, as required by the Paperwork Reduction Act of 1995. On December 18, 2020, the ASC requested comment for 60 days on a proposal to renew this information collection. No comments were received. The ASC hereby gives notice of its plan to submit to the Office of Management and Budget (OMB) a request to approve the renewal of this collection and again invites comment on its renewal.

DATES: Written comments must be received on or before April 19, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Lori Schuster, Management and Program Analyst, at (202) 595-7578, Appraisal Subcommittee, 1325 G Street NW, Suite 500, Washington, DC 20005. View the entire information collection request at www.reginfo.gov.

SUPPLEMENTARY INFORMATION: Title: Reporting Information for the AMC Registry.

OMB Number: 3139-0009.

Type of Review: Extension of a currently approved collection.

Abstract: The Dodd-Frank Act requires the ASC to maintain the National Registry of Appraisal Management Companies (AMC Registry) of those AMCs that are either: (1) Registered with and subject to supervision by a State that has elected to register and supervise AMCs; or (2) are Federally regulated AMCs. In order for a State that elected to register and supervise AMCs to enter an AMC on the AMC Registry, the following items are required entries by the State via extranet application on the AMC Registry:

State Abbreviation

State Registration Number for AMC

Employer Identification Number (EIN)

AMC Name

Street Address

City

State

Zip

License or Registration Status

Effective Date

Expiration Date

AMC Type (State or multi-State)

Disciplinary Action

Effective Date

Expiration Date

Number of Appraisers (for invoicing registry fee)

States listing AMCs on the AMC Registry enter the above information for each AMC for the initial entry only. After the initial entry, the information is retained on the AMC Registry, and will only need to be amended if necessary by the State. Currently 51 States have elected to register and supervise AMCs with 39 States currently entering data in the AMC Registry.

Current Action: There are no changes being made to this regulation.

Affected Public: States.

Estimated Number of Respondents: 51 States.

Estimated Burden per Response: 15 minutes.

Frequency of Response: Annually and on occasion.

Estimated Total Annual Burden Hours: We estimate that a State will spend approximately 22.5 hours annually submitting data to the ASC for a total of 1,147.5 hours.

* * * * *

By the Appraisal Subcommittee.
James R. Park,
Executive Director.

[FR Doc. 2021-05657 Filed 3-18-21; 8:45 am]

BILLING CODE 6700-01-P